DEPARTMENT OF HOMELAND SECURITY

Coast Guard

[Docket No. USCG-2009-0676]

Chemical Transportation Advisory Committee

AGENCY: Coast Guard, DHS.

ACTION: Notice of meetings.

SUMMARY: The Chemical Transportation Advisory Committee (CTAC) and a selection of its subcommittees and working groups will hold meetings to discuss various issues relating to the marine transportation of hazardous materials in bulk. These meetings will be open to the public. The subcommittees that will meet are Outreach, National Fire Protection Association (NFPA) 472 Standard, Hazardous Cargo Transportation Security (HCTS), and International Maritime Solid Bulk Cargoes (IMSBC) Code. The working groups that will meet are Barge Emission and Hazard Communication, the International Convention for the Prevention of Pollution from Ships (MARPOL), and First Responders.

DATES: The Outreach subcommittee will meet on Tuesday, August 11, 2009, from 8:30 a.m. to 10:30 a.m. The MARPOL working group will meet on Tuesday, August 11, 2009, from 10:30 a.m. to 12 p.m. The NFPA 472 Standard subcommittee will meet on Tuesday, August 11, 2009, from 12:45 p.m. to 1:45 p.m. The First Responders working group will meet on Tuesday, August 11, 2009, from 1:45 p.m. to 3 p.m. The IMSBC Code subcommittee will meet on Wednesday, August 12, 2009, from 8:30 a.m. to 10 a.m. The Barge Emission and Hazard Communication working group will meet on Wednesday, August 12, 2009, from 10 a.m. to 12 p.m. The HCTS subcommittee will meet on Wednesday, August 12, 2009, from 1:15 p.m. to 4 p.m.

ADDRESSES: CTAC, its subcommittees and working groups will meet at the U.S Coast Guard Headquarters, 2100 2nd Street, SW., Washington, DC. If interested in making presentations, please send your request to COMMANDANT (CG-5223), ATTN (CG-5223), U.S. Coast Guard, 2100 2nd St., SW., STOP 7126, Washington, DC, 20593-7126. Presentations can be oral or in writing.

FOR FURTHER INFORMATION CONTACT: Commander Michael Roldan, Designated Federal Officer (DFO) of CTAC at 202-372-1420, or Ms. Sara Ju, Assistant to the DFO, at 202-372-1422, fax 202-372-1926.

SUPPLEMENTARY INFORMATION: Notice of these meetings is given under the Federal Advisory Committee Act, 5 U.S.C. App. (Pub. L. 92-463).

Agendas of Meetings

Chemical Transportation Advisory Committee (CTAC). The agenda includes the following:

(1) Progress report from the Outreach subcommittee.

(2) Status report from the Barge Emission and Hazard Communication working group.

(2) Status report on the HCTS subcommittee.

(3) Final report on the IMSBC Code subcommittee.

(4) Status report on the MARPOL working group.

(5) Status report on the NFPA 472 Standard subcommittee.

(6) Status report from the First Responders working group.

(7) Presentation from the Environmental Protection Agency regarding air monitoring and MARPOL issues.

(8) Presentation from the Chemical Facility Anti Terrorism Standards (CFATS) regarding the facility inspection process.

(9) Presentation regarding the market of Liquefied Natural Gas.

Outreach Subcommittee. The subcommittee will discuss its efforts and any upcoming events where CTAC may be present to help promote its mission of issues relating to the secure marine transportation of hazardous materials in bulk.

HCTS Subcommittee. The subcommittee will discuss progress with the Transportation Workers Identification Credentials (TWIC) program and proposed Advanced Notice of Arrival (ANOA) regulatory changes.

IMSBC Code Subcommittee. The subcommittee will discuss and finalize recommendations to harmonize the US regulations with the IMSBC Code and with Chapter VI of the International Convention for the Safety of Life at Sea, and incorporation of requirements and best practices for the safe transport of solid bulk cargoes contained in Coast Guard policy, guidelines, and previously issued special permits.

MARPOL Working Group. The working group will review the task statement and discuss improvements for the adequacy of port waste reception facilities.

NFPA 472 Standards Subcommittee. The subcommittee will review the task statement and identify any outstanding items.

Barge Emission and Hazard Communication Working Group. The working group will discuss outreach efforts especially aimed at barge owners and operators regarding best practices for reducing hazardous emissions.

First Responders Working Group. The working group will discuss how to create a training program for first responders for maritime incidences.

Procedural

These meetings are open to the public. At the Chair's discretion, members of the public may make oral presentations during these meetings. If you would like to make an oral presentation, please notify the DFO no later than August 7, 2009. Written material for distribution at these meetings should reach the Coast Guard no later than August 7, 2009. If you would like a copy of your material distributed to each member of the committee in advance of these meetings, please submit 25 copies to the DFO no later than August 7, 2009.

Information on Services for Individuals With Disabilities

For information on facilities or services for individuals with disabilities or to request special assistance at these meetings, contact the DFO as soon as possible.

Dated: July 21, 2009.
J.G. Lantz,
Director of Commercial Regulations and Standards.

[FR Doc. E9-17753 Filed 7-21-09; 4:15 pm]

BILLING CODE 4910-15-P